NATIONAL TRANSPORTATION SAFETY BOARD

Meeting; Sunshine Act

TIME AND PLACE: 1:00 p.m., Wednesday, June 26, 2002.

PLACE: NTSB Conference Center, 429 L'Enfant Plaza SW., Washington, DC 20594.

STATUS: The three items are Open to the Public.

MATTERS TO BE CONSIDERED:

7400A Hazardous Materials Accident Report—Hazardous Material Release from Railroad Tank Car with Subsequent Fire at Riverview, Michigan, July 14, 2001.

7330A Aviation Accident Brief Report Regarding the Southwest Airlines, Inc., flight 1455, Boeing 737-300, N668SW, Accident that Occurred at Burbank-Glendale-Pasadena Airport, Burbank, California, on March 5, 2000.

7457 Aviation Accident Brief Regarding a Fatal Propeller Strike Accident, Involving US Airways flight 3340, a de Havilland Dash 8, which Occurred at Washington Reagan International Airport, Washington, DC, on August 5, 2001.

NEWS MEDIA CONTACT: Telephone: (202) 314-6100. Individuals requesting specific accommodations should contact Ms. Carolyn Dargan at (202) 314-6305 by Friday, June 21, 2002.

FOR MORE INFORMATION CONTACT: Vicky D'Onofrio, (202) 314-6410.

Dated: June 14, 2002.
Vicky D'Onofrio,
Federal Register Liaison Officer.

[FR Doc. 02-15467 Filed 6-14-02; 2:25 pm]

BILLING CODE 7533-01-M